DEPARTMENT OF HEALTH AND HUMAN SERVICES

Centers for Disease Control and Prevention

[60Day-13-0910]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Leroy Richardson, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Message Testing for Tobacco Communication Activities (OMB No. 0920-0910, exp. 1/31/2015)—Revision—National Center for Chronic Disease Prevention and Health Promotion (NCCDPHP), Centers for Disease Control and Prevention (CDC).

Background and Brief Description

Tobacco use remains the leading preventable cause of death in the United States. Recent legislative developments highlight the importance of tobacco control—including the dissemination of appropriate tobacco control messages—in efforts to improve the nation's health. These developments include the Prevention and Public Health Fund, established by the Affordable Care Act (ACA), which supports initiatives designed to reduce the health and financial burden of tobacco use through prevention and cessation approaches. An essential component of this initiative is a national campaign to increase awareness of the health consequences of tobacco use and exposure to secondhand smoke. The campaign is being planned and implemented by the Office on Smoking and Health (OSH) at the Centers for Disease Control and Prevention (CDC). OSH serves as a resource for tobacco and health information for the public, health professionals, various branches of government, and other interested groups.

In 2012, OSH obtained OMB approval of a generic clearance that established a unified information collection framework for the development of tobacco-related health messages, including messages related to the ACA-funded tobacco education campaign (Message Testing for Tobacco Communication Activities (MTTCA), OMB No. 0920-0910, exp. 1/31/2015). Since that time, CDC has employed the MTTCA clearance to collect information about smokers' and non-smokers' attitudes and perceptions, and to pre-test draft messages and materials for clarity, salience, appeal, and persuasiveness. A variety of information collection strategies are supported through this mechanism, including in-depth interviews, in-person focus groups, online focus groups, computer-assisted, in-person, or telephone interviews, and online surveys. CDC requests OMB approval for each data collection by submitting an Information Collection Request that describes project purpose, use, and methodology. CDC's authority to collect information for public health purposes is provided by the Public Health Service Act (41 U.S.C. 241) Section 301.

CDC plans to revise the generic MTTCA clearance, which was initially approved with the following estimates: 5,775 annualized burden hours and 14,974 annualized responses. The initial estimates were based on the number of respondents who were likely to participate in information collection activities such as focus groups, interviews, and surveys. The initial estimates did not account for specific screening activities that are necessary to identify respondents from key target audiences. As a result, the initial MTTCA clearance underestimated the total number of respondents involved in CDC-sponsored information collection. The planned revision will adjust for screening and recruitment by allocating 20,000 additional respondents, and 667 additional burden hours, to the annualized estimates.

The generic MTTCA clearance will continue to support the development and testing of tobacco-related health messages for the general public and subpopulations. For example, screening activities may be conducted to involve individuals who are Lesbian, Gay, Bisexual, and Transgender (LGBT); individuals who are active military or veterans; individuals who suffer from depression and/or anxiety, and individuals who are English-speaking Hispanics. CDC may also request information about smoking status (e.g., current non-smoker, current smoker, ex-smoker). Screening results will be used to segment target audiences, interpret findings, and explore the development of tailored messages for population subgroups. The estimated burden per response for screening is 2-3 minutes.

CDC will continue to use the MTTCA clearance to develop and test messages and materials for current and future phases of the ACA-funded media campaign, OSH's ongoing programmatic initiatives including the Media Campaign Resource Center (MCRC) and reports from the Office of the Surgeon General, and collaborative efforts within CDC. The MTTCA generic clearance may also be used to facilitate the development of tobacco-related health communications of interest to CDC and other federal partners, including the Food and Drug Administration (FDA), the Substance Abuse and Mental Health Services Administration (SAMHSA), the National Institutes of Health (NIH), and the National Cancer Institute (NCI).

The revision request does not affect the current expiration date of January 31, 2015. The estimated annualized number of responses will increase from 14,974 to 34,974 and the estimated annualized burden hours will increase from 5,775 to 6,442. Participation is voluntary and there are no costs to respondents other than their time.

Estimated Annualized Burden Hours
Type of respondents | Data collection method | Number of respondents | Number of responses per respondent | Average burden per response | Total burden (in hours)
| Screening and Recruitment | 20,000 | 1 | 2/60 | 667
| In-depth Interviews (In Person, telephone, etc.) | 67 | 1 | 1 | 67
| Focus Groups (In Person) | 160 | 1 | 1.5 | 240
General Public and Special Populations | Focus Groups (Online) | 120 | 1 | 1 | 120
| Short Surveys (Online, Bulletin Board, etc.) | 6,001 | 1 | 10/60 | 1,000
| Medium Surveys (Online) | 7,334 | 1 | 25/60 | 3,056
| In-depth Surveys (Online) | 1,292 | 1 | 1 | 1,292
Total |  | 34,974 |  |  | 6,442

Leroy A. Richardson,
Chief, Information Collection Review Office, Office of Scientific Integrity, Office of the Associate Director for Science, Office of the Director, Centers for Disease Control and Prevention (CDC).

[FR Doc. 2013-21048 Filed 8-28-13; 8:45 am]

BILLING CODE 4163-18-P